DEPARTMENT OF THE TREASURY

Submission for OMB Review; Comment Request

July 16, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before August 27, 2001, to be assured of consideration.

Internal Revenue Service (IRS)

OMB Number: 1545-1054.

Form Number: IRS Form 8726.

Type of Review: Extension.

Title: Application for Automatic Extension of Time to File U.S. Return for a Partnership, REMIC, or for Certain Trusts.

Description: Form 8736 is used by partnerships, REMICs, and by certain trusts to request an automatic 3-month extension of time to file Form 1065, Form 1041, or Form 1066. Form 8736 contains data needed by the IRS to determine whether or not a taxpayer qualifies for such an extension.

Respondents: Business or other for-profit, farms.

Estimated Number of Respondents/Recordkeepers: 36,000.

Estimated Burden Hours Per Respondent/Recordkeeper:

Recordkeeping—2 hr., 23 min.

Learning about the law or the form—47 min.

Preparing, copying, assembling, and sending the form to the IRS—52 min.

Frequency of Response: Annually.

Estimated Total Reporting/Recordkeeping Burden: 145,800 hours.

Clearance Officer: Garrick Shear, Internal Revenue Service, Room 5244, 1111 Constitution Avenue, NW., Washington, DC 20224.

OMB Reviewer: Alexander T. Hunt, (202) 395-7860, Office of Management and Budget, Room 10202, New Executive Office Building, Washington, DC 20503.

Lois K. Holland,
Departmental Reports, Management Officer.

[FR Doc. 01-18703 Filed 7-26-01; 8:45 am]

BILLING CODE 4830-01-U